DEPARTMENT OF ENERGY

Federal Energy Regulatory Commission

[Docket No. AD07-14-000]

Hydrokinetic Pilot Project Workshop; Notice of Technical Conference and Soliciting Comments

July 19, 2007.

A technical conference, led by Commissioner Philip D. Moeller, will be held on October 2, 2007, in Portland, Oregon. Specific information on time and location will be noticed a month prior to the conference. All interested persons may attend, and there is no fee. Registration is not required, but is appreciated for planning purposes; please register at: https://www.ferc.gov/whats-new/registration/hydrokinetic-10-07-form.asp. Following the conference there will be a 30-day written comment period.

The purpose of the conference will be to present Commission staff's proposed licensing process for hydrokinetic energy pilot projects and to seek feedback from representatives from industry, state and federal agencies, NGOs, Native American tribes, and members of the public.

The goal of the proposed program is to complete licensing in as few as six months, to provide for Commission oversight and agency input, and to allow developers to generate while testing. This process will be available for projects that are: (1) Small (5 MW or less), (2) removable or able to shut down on relatively short notice, (3) not located in waters with sensitive designations, and (4) for the purpose of testing new hydro technologies or determining appropriate sites for ocean wave and tidal energy projects.

We envision the license having the following characteristics:

• A short license term (5 years);

• A standard license condition requiring project alteration or shutdown in the event that monitoring reveals an unacceptable level of environmental effect;

• The option of applying for a 30-50 year license at the end of the license term; and

• A standard license condition requiring decommissioning and site restoration at the time of license expiration if the option is not exercised.

A flowchart describing Commission staff's proposed licensing process for pilot projects is attached to this notice.

Transcripts of the conference will be immediately available from Ace Reporting Company (202-347-3700 or 1-800-336-6646) for a fee. They will be available to the public on the Commission's eLibrary system seven calendar days after FERC receives the transcript.

All comments (original and eight copies) should be filed with: Kimberly D. Bose, Secretary, Federal Energy Regulatory Commission, 888 First Street, NE., Washington, DC 20426. Comments may be filed electronically via the Internet in lieu of paper. The Commission strongly encourages electronic filings. See 18 CFR 385.2001(a)(1)(iii) and the instructions on the Commission's Web site (http://www.ferc.gov) under the “e-Filing” link.

FERC conferences are accessible under section 508 of the Rehabilitation Act of 1973. For accessibility accommodations please send an e-mail to: accessibility@ferc.gov or call toll free 866-208-3372 (voice) or 202-502-8659 (TTY), or send a FAX to 202-208-2106 with the required accommodations.

Additional details regarding the agenda for this conference will be included in a subsequent notice.

For more information about the conference, please contact Kristen Murphy at 202-502-6236 (kristen.murphy@ferc.gov), or Tim Welch at 202-502-8760 (timothy.welch@ferc.gov).

Kimberly D. Bose,
Secretary.

[FR Doc. E7-14729 Filed 7-30-07; 8:45 am]

BILLING CODE 6717-01-P